DEPARTMENT OF ENERGY

Senior Executive Service; Performance Review Board

AGENCY: U.S. Department of Energy.

ACTION: Designation of Performance Review Board Standing Register.

SUMMARY: This notice provides the Performance Review Board Standing Register for the Department of Energy. This listing supersedes all previously published lists of PRB members.

DATES: This appointment is effective as of September 30, 2014.

Bremer, John

Brown, Fred

Buttress, Larry

Cadieux, Gena

Chalk, Steven

Gamage, Sarah

Geiser, David

Jones, Wayne

Lee, Terri

Lenhard, Joseph

Mefford, Penny

O'Konski, Peter

Stephenson, April

Waisley, Sandra

White, William I.

Williams, Thomas D.

Issued in Washington, DC, October 2, 2014.
Tonya M. Mackey,
Director, Office of Executive Resources, Office of the Chief Human Capital Officer.

[FR Doc. 2014-24019 Filed 10-7-14; 8:45 am]

BILLING CODE 6450-01-P